ENVIRONMENTAL PROTECTION AGENCY

40 CFR Part 52

[IN107-1b; FRL-6573-9]

Approval and Promulgation of Implementation Plan; Indiana Particulate Matter Rule

AGENCY: Environmental Protection Agency (EPA).

ACTION: Proposed rule.

SUMMARY: EPA is proposing to approve Indiana's State Plan revision to control particulate matter emissions from selected facilities at Central Soya Company, Incorporated in Marion County Indiana, submitted on February 3, 1999. The revision to the State Plan eliminates nine sources of particulate matter and adds 5 new sources. The emissions from the new sources do not exceed 25 tons per year and represents a net overall reduction in annual emissions.

DATES: Written comments must be received on May 11, 2000.

ADDRESSES: Written comments should be mailed to: J. Elmer Bortzer, Chief, Regulation Development Section, Air Programs Branch (AR-18J), Environmental Protection Agency, Region 5, 77 West Jackson Boulevard, Chicago, Illinois 60604.

Copies of the State submittal are available for inspection at: Regulation Development Section, Air Programs Branch (AR-18J), Environmental Protection Agency, Region 5, 77 West Jackson Boulevard, Chicago, Illinois 60604.

FOR FURTHER INFORMATION CONTACT: John Paskevicz, Environmental Engineer, Regulation Development Section, Air Programs Branch (AR-18J), Environmental Protection Agency, Region 5, 77 West Jackson Boulevard, Chicago, Illinois 60604, (312) 886-6084.

SUPPLEMENTARY INFORMATION: For additional information see the direct final rule published in the final rules section of this Federal Register.

Dated: March 28, 2000.
Francis X. Lyons,
Regional Administrator, Region 5.

[FR Doc. 00-8829 Filed 4-10-00; 8:45 am]

BILLING CODE 6560-50-U